DEPARTMENT OF COMMERCE

International Trade Administration

University of Colorado; Notice of Consolidated Decision on Applications for Duty-Free Entry of Scientific Instruments

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, 14th and Constitution Ave., NW., Washington, DC.

Comments: None received. Decision: Approved. We know of no instrument of equivalent scientific value to the foreign instruments described below, for such purposes as each is intended to be used, that was being manufactured in the United States at the time of its order.

Docket Number: 07-051. Applicant: Colorado College, Department of Physics, Colorado Springs, CO. Instrument: Low Temperature Ulta-High Vacuum Scanning Tunneling Microscope. Manufacturer: Omicron Nanotechnology GmbH, Germany. Intended Use: See notice at 72 CFR 46037, August 16, 2007. Reasons: The instrument provides: (a) A scanning tunneling microscope mounted inside a 4 K liquid helium reservoir (with a 22-hour liquid helium refill time); (b) Operation at an equilibrium temperature of 4 K (with in-situ sample preparation and tip transfer capability); (c) Low drift rates of 1 angstrom/hour; (d) RMS vibration amplitudes of <0.005 angstrom in a 300 Hz bandwidth; and (e) Sample registry after deposition. There are no domestically manufactured low temperature ultra-high vacuum scanning tunneling microscopes.

Docket Number: 07-053. Applicant: University of Kentucky, Dept. Civil Engineering, Lexington, KY. Instrument: Soil Stiffness Testing System. Manufacturer: GDS Instruments, Ltd., UK. Intended Use: See notice at 72 CFR 46037, August, 16, 2007. Reasons: The instrument provides a vertically propagating S-wave transmitter and a P-wave receiver along with a vertically propagating P-wave transmitter and S-wave receiver and a master signal conditioning unit along with GDSBES software to control data acquisition and drive signal generation for S and P wave velocity tests as well as a Hall effect local strain set (2 axial, 1 radial) and mid-plane pore pressure kit. No domestic sources making similar devices provide an integrated system of this type of testing with the resolution required for advanced geotechnical research.

Faye Robinson,
Director, Statutory Import Programs Staff, Import Administration.

[FR Doc. E7-17868 Filed 9-10-07; 8:45 am]

BILLING CODE 3510-DS-P